INTERNATIONAL TRADE COMMISSION

[Investigation No. 337-TA-936]

Certain Footwear Products; Institution of Investigation Pursuant to 19 U.S.C. 1337

AGENCY: U.S. International Trade Commission

ACTION: Notice

SUMMARY: Notice is hereby given that a complaint was filed with the U.S. International Trade Commission on October 14, 2014, under section 337 of the Tariff Act of 1930, as amended, 19 U.S.C. 1337, on behalf of Converse Inc. of North Andover, Massachusetts. A supplement to the complaint was filed on November 4, 2014. The complaint alleges violations of section 337 based upon the importation into the United States, the sale for importation, and the sale within the United States after importation of certain footwear products by reason of infringement of U.S. Trademark Registration No. 4,398,753 (“the '753 trademark”); U.S. Trademark Registration No. 3,258,103 (“the '103 trademark”); and U.S. Trademark Registration No. 1,588,960 (“the '960 trademark”), and that an industry in the United States exists as required by subsection (a)(2) of section 337. The complaint further alleges violations of section 337 based upon unfair competition/false designation of origin, common law trademark infringement and unfair competition, and trademark dilution, the threat or effect of which is to destroy or substantially injure an industry in the United States.

The complainant requests that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2014).

Scope of Investigation: Having considered the complaint, the U.S. International Trade Commission, on November 10, 2014, ordered that—

(1) Pursuant to subsection (b) of section 337 of the Tariff Act of 1930, as amended, an investigation be instituted to determine:

(a) Whether there is a violation of subsection (a)(1)(C) of section 337 in the importation into the United States, the sale for importation, or the sale within the United States after importation of certain footwear products by reason of infringement of one or more of the '753, '103, and the '960 trademarks, and whether an industry in the United States exists as required by subsection (a)(2) of section 337;

(b) whether there is a violation of subsection (a)(1)(A) of section 337 in the importation into the United States, the sale for importation, or the sale within the United States after importation of certain footwear products by reason of unfair competition/false designation of origin, common law trademark infringement and unfair competition, or trademark dilution, the threat or effect of which is to destroy or substantially injure an industry in the United States.

(2) For the purpose of the investigation so instituted, the following are hereby named as parties upon which this notice of investigation shall be served:

(a) The complainant is: Converse Inc., One High Street, North Andover, MA 01845.

(b) The respondents are the following entities alleged to be in violation of section 337, and are the parties upon which the complaint is to be served:

Skechers U.S.A., Inc., 228 Manhattan Beach Boulevard, Manhattan Beach, CA 90266.

Wal-Mart Stores, Inc., 702 SW. 8th Street, Bentonville, AR 72716-8611.

A-List, Inc., d/b/a Kitson, 115 South Robertson Boulevard, Los Angeles, CA 90048.

Aldo Group, 2300 Émile-Bélanger, Montreal, Quebec H4R 3J4, Canada.

Brian Lichtenberg, LLC, 825½ Silver Lake Boulevard, Los Angeles, CA 90026.

Cmerit USA, Inc., d/b/a Gotta Flurt, 13875 Ramona Avenue, Chino, CA 91710.

Dioniso SRL, via Pievaiola 166-f2, 06132 Perugia, Italy.

Edamame Kids, Inc., 1911-34 Avenue SW., Calgary, Alberta T2T 2C2, Canada.

Esquire Footwear, LLC, 385 5th Avenue, Second Floor, New York, NY 10016.

FILA U.S.A., Inc., 930 Ridgebrook Road, Suite 200, Sparks, MD 21152.

Fortune Dynamic, Inc., 21923 Ferrero Parkway, City of Industry, CA 91789.

Gina Group, LLC, 10 West 33rd Street, #312, New York, NY 10001.

H & M Hennes & Mauritz LP, 215 Park Avenue South, 15th floor, New York, NY 10003.

Highline United LLC d/b/a Ash Footwear USA, 44 Mercer Street, New York, NY 10013.

Hitch Enterprises Pty Ltd d/b/a Skeanie, Unit 3, 13 Lyell Street, Mittagong, New South Wales 2575, Australia.

Iconix Brand Group, Inc., d/b/a Ed Hardy, 1450 Broadway, 3rd and 4th Floor, New York, NY 10018.

Kmart Corporation, 3333 Beverly Road, Hoffman Estates, IL 60179.

Mamiye Imports LLC d/b/a Lilly of New York, 1841 East 8th Street, Brooklyn, NY 11223.

Nowhere Co., Ltd. d/b/a Bape, 4-22-3, Sendagaya, Shibuya-Ku, 151-0051 Tokyo, Japan.

OPPO Original Corp, 108-118 Brea Canyon Road, City of Industry, CA 91789-3086.

Orange Clubwear, Inc., d/b/a Demonia Deviant, 14726 Goldenwest Street, Suite B, Westminster, CA 92683.

Ositos Shoes, Inc., d/b/a Collection'O, 9605 Rush Street, South El Monte, CA 91733.

PW Shoes Inc., 58-30 Grand Avenue #3A, Maspeth, NY 11378.

Ralph Lauren Corporation, 650 Madison Avenue, New York, NY 10022-1070.

Shenzhen Foreversun Industrial Co., Ltd (a/k/a Shenzhen Foreversun Shoes Co., Ltd), Room 1109-1112 F11, Yousong Science &Technology Bldg., 1st Road of Donghuan, Longhua, Bao'an, Shenzhen, Guangdong Province, China 518109.

Shoe Shox, c/o Zulily, Inc., 2601 Elliott Avenue, Suite 200, Seattle, WA 98121.

Tory Burch LLC, 11 West 19th Street, 7th Floor, New York, NY 10011-4277.

Zulily, Inc., 2601 Elliott Avenue, Suite 200, Seattle, WA 98121.

Fujian Xinya I&E Trading Co. Ltd., Floor 4, Building A, China Shoes Capital, Chendai Town, Jinjiang, Fujian Province, China 362200.

Zhejiang Ouhai International Trade Co. Ltd., Building B, Jinzhou Building, Wenzhou Avenue, Wenzhou, Zhejiang Province, China 325000.

Wenzhou Cereals Oils & Foodstuffs Foreign Trade Co. Ltd., 24th Floor, International Trade Centre, 236 Liming West Road, Wenzhou, Zhejiang Province, China 325003.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: November 12, 2014.
By order of the Commission.
Lisa R. Barton,
Secretary to the Commission.

[FR Doc. 2014-27112 Filed 11-14-14; 8:45 am]

BILLING CODE 7020-02-P